DEPARTMENT OF COMMERCE

International Trade Administration

[A-570-862]

Foundry Coke Products from the People's Republic of China: Final Results of the Expedited Sunset Review of the Antidumping Duty Order

AGENCY: Import Administration, International Trade Administration, Department of Commerce.

SUMMARY: On August 1, 2006, the Department of Commerce (“the Department”) initiated a sunset review of the antidumping duty Order on Foundry Coke Products (“Foundry Coke”) from the People's Republic of China (“PRC”) pursuant to section 751(c) of the Tariff Act of 1930, as amended (“the Act”). See Initiation of Five-year (“Sunset”) Reviews, 71 FR 43443 (August 1, 2006) (“Sunset Initiation”); see also Notice of Amended Final Determination of Sales at Less Than Fair Value and Antidumping Duty Order: Foundry Coke Products From the People's Republic of China, 66 FR 48025 (September 17, 2001) (“Order”). On the basis of notices of intent to participate and adequate substantive responses filed on behalf of the domestic interested parties and lack of response from respondent interested parties, the Department conducted an expedited sunset review of the Order pursuant to section 751(c)(3)(B) of the Act and section 351.218(e)(1)(ii)(C)(2) of the Department's regulations. As a result of this sunset review, the Department finds that revocation of the Order would likely lead to continuation or recurrence of dumping at the levels indicated in the “Final Results of Review” section of this notice.

EFFECTIVE DATE: December 7, 2006.

FOR FURTHER INFORMATION CONTACT: Irene Gorelik at (202) 482-6905 or Juanita Chen at (202) 482-1904; AD/CVD Operations, Import Administration, International Trade Administration, U.S. Department of Commerce, 14th Street and Constitution Avenue, NW, Washington, DC 20230.

SUPPLEMENTARY INFORMATION:

Background

On August 1, 2006, the Department initiated a sunset review of the Order on Foundry Coke from the PRC pursuant to section 751(c) of the Act. See Sunset Initiation. The Department received notices of intent to participate from the following domestic parties within the deadline specified in 19 CFR 351.218(d)(1)(i): ABC Coke, Citizens Gas & Coke Utility, Erie Coke, Sloss Industries Corporation, and Tonawanda Coke Corporation (collectively, “Petitioners”). These parties claimed interested party status under section 771(9)(C) of the Act and 19 CFR 351.102(b), as domestic manufacturers and producers of the domestic like product. The Department received a substantive response from Petitioners within the 30-day deadline specified in 19 CFR 351.218(d)(3)(i). The Department did not receive a substantive response from any of the respondent interested parties. As a result, pursuant to section 751(c)(3)(B) of the Act and 19 CFR 351.218(e)(1)(ii)(C)(2), the Department conducted an expedited sunset review of the Order.

Scope Of The Order

The product covered under the antidumping duty order is coke larger than 100 mm (4 inches) in maximum diameter and at least 50 percent of which is retained on a 100-mm (4 inch) sieve, of a kind used in foundries.

The foundry coke products subject to the antidumping duty order were classifiable under subheading 2704.00.00.10 (as of Jan 1, 2000) and are currently classifiable under subheading 2704.00.00.11 (as of July 1, 2000) of the Harmonized Tariff Schedule of the United States (“HTSUS”). Although the HTSUS subheadings are provided for convenience and Customs purposes, our written description of the scope of the order is dispositive.

Additionally, the Department has issued one conclusive scope ruling regarding the merchandise covered by the Order. On February 18, 2003, the Department found that the particular foundry coke as defined by Shanxi and imported by Shook Group LLC and Dajin U.S. Trading, Inc.¹, is within the scope of the Order. See Notice of Scope Rulings and Anticircumvention Inquiries, 68 FR 7772, 7773-74 (February 18, 2003); see also Memorandum from Edward C. Yang to Joseph Spetrini, Deputy Assistant Secretary: Final Scope Ruling on the Antidumping Duty Order on Foundry Coke from the People's Republic of China; Shook Group LLC and Dajin U.S. Trading, Inc., dated May 31, 2002.

¹ Shook and Dajin did not challenge that above 100 mm coke should be considered foundry coke. Rather, Shook and Dajin challenged the application of an industry standard test, and whether the 50 percent condition of the test applied to the entire shipment or a portion of the shipment which was sold as being over 100 mm. We found that this issue was clearly addressed in the investigation at the Final Determination, wherein it was determined that the 50 percent condition applies only to that portion of the shipment sold as larger than 100 mm coke, and if at least 50 percent of such coke is retained on a 100 mm sieve, such coke is within the scope of the order. We found that this conclusion was consistent with the scope of the investigation and the order, as defined in the petition, as well as the Department's and the ITC's determinations.

Analysis Of Comments Received

All issues raised in this review are addressed in the accompanying Issues and Decision Memorandum, which is hereby adopted by this notice. The issues discussed in the accompanying Issues and Decision Memorandum include the likelihood of continuation or recurrence of dumping and the magnitude of the dumping margin likely to prevail if the Order were revoked. Parties can find a complete discussion of all issues raised in this review and the corresponding recommendations in this public memorandum which is on file in the Central Records Unit, room B-099, of the main Commerce building. In addition, a complete version of the Issues and Decision Memorandum can be accessed directly on the Web at http://ia.ita.doc.gov and clicking on “Federal Register Notices”. The paper copy and electronic version of the Issues and Decision Memorandum are identical in content.

Final Results Of Sunset Review

The Department determines that revocation of the Order on Foundry Coke from the PRC would likely lead to continuation or recurrence of dumping at the rates listed below:

Manufacturers/Exporters/Producers | Weighted-Average Margin (Percent)
Shanxi Dajin International (Group) Co., Ltd | 101.62 %%
Sinochem International Co., Ltd. | 105.91 %%
Minmetals Townlord Technology Co., Ltd. | 75.58 %%
CITIC Trading Company, Ltd. | 48.55 %%
PRC-Wide Rate | 214.89 %%

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 777(i)(1) of the Act.

Dated: November 29, 2006.
Joseph A. Spetrini,
Acting Assistant Secretary for Import Administration.

[FR Doc. E6-20695 Filed 12-6-06; 8:45 am]

BILLING CODE 3510-DS-S